DEPARTMENT OF TRANSPORTATION

Federal Aviation Administration

RTCA Special Committee 172: Future Air-Ground Communications in the Very High Frequency (VHF) Aeronautical Data Band (118-137 MHz)

AGENCY: Federal Aviation Administration (FAA), DOT.

ACTION: Notice of RTCA Special Committee 172 meeting.

SUMMARY: The FAA is issuing this notice to advise the public of a meeting of RTCA Special Committee 172: Future Air-Ground Communications in the VHF Aeronautical Data Band (118-137 MHz).

DATES: The meeting will be held May 28-31, 2002 from 9 am to 5 pm each day.

ADDRESSES: The meeting will be held at RTCA, Inc., 1828 L Street, NW. Suite 805, Washington, DC 20036.

FOR FURTHER INFORMATION CONTACT: RTCA Secretariat, 1828 L Street, SW., Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 172 meeting. The agenda will include:

• May 28:

• Opening Plenary session (Welcome and Introductory Remarks, Review of Agenda, Review Summary of Previous Meeting)

• Prepare DO-224A Change 2 for Final Review and Comment (FRAC)

• May 29, 30:

• Continue work on DO-224A Change 2 for FRAC

• Work on DO-271A for FRAC

• May 31:

• Continue work on DO-271A for FRAC

• Plenary Reconvenes (Approve both DO-224A Change 2 and DO-271A for FRAC)

• Review Relevant International Activities (EUROCAE WG 47 status and issues, Others as appropriate)

• Closing Plenary Session (Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 7, 2002.
Janice L. Peters,
FAA Special Assistant, RTCA Advisory Committee.

[FR Doc. 02-11907 Filed 5-10-02; 8:45 am]

BILLING CODE 4910-13-M